DEPARTMENT OF ENERGY

Federal Energy Regulatory Commission

[Docket No. CP01-380-000]

Kern River Gas Transmission Company; Notice of Application

June 7, 2001.

Take notice that on May 30, 2001, Kern River Gas Transmission Company (Kern River), 295 Chipeta Way, Salt Lake City, Utah 84158, filed in docket No. CP01-380-000 an application pursuant to section 7(c) of the Natural Gas Act (NGA) and part 157 of the Federal Energy Regulatory Commission's (Commission) regulations for a certificate of public convenience and necessity authorizing Kern River to construct and operate: (1) A 12-inch mainline tap on Kern River's mainline north of Las Vegas; (2) approximately 3.54 miles of 16-inch diameter delivery lateral pipeline in Clark County, Nevada (Moapa Lateral); and (3) a delivery meter station at the terminus of the lateral, all as more fully set forth in the application which is on file with the Commission and open to public inspection. The filing may be viewed at http://www.rimsweb1.ferc.fed.us/rims.q?rp2~intro. (call 202-208-2222 for assistance).

Specifically, Kern River requests authorization to construct the Moapa Lateral to provide up to 218.8 MMcf per day of natural gas to Duke Energy North America, LLP (Duke) to fuel its proposed 1,200 megawatt gas-fired power plant near Moapa, Nevada. Transportation service to the plant will be provided under authorized Part 284 transportation service agreements.

The estimated cost of the proposed lateral facilities is approximately $3.8 million. Duke will reimburse Kern River for all of the actual costs of the proposed facilities, plus associated income taxes, by making a lump sum payment upon completion of construction. Kern River requests a final certificate order no later than May 2, 2002, in order to complete the project before November 2002, the date Duke estimates it will require test gas for its new plant.

Because the pipeline will cross environmentally sensitive areas, i.e. the critical habitat of the desert tortoise, kern River states that it is seeking a case specific certificate, rather than pursuing this pipeline construction project under its Part 157, Subpart F, blanket certificate authority.

An questions regarding this application should be directed to Mr. Gary Kotter, Manager, Certificates, Kern River Gas Transmission Company, P.O. Box 58900, Salt Lake City, Utah 84158-0900 or call (801) 584-7117.

There are two ways to become involved in the Commission's review of this project. First, any person wishing to obtain legal status by becoming a party to the proceedings for this project should, on or before June 20, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition of this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission(except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.gov/documents/makeanelectronicfiling/doorbell.htm.

If the Commission decides to set the application for a formal hearing before an Administrative Law Judge, the Commission will issue another notice describing that process. At the end of the Commission's review process, a final Commission order approving or denying a certificate will be issued.

David P. Boergers,
Secretary.

[FR Doc. 01-14852 Filed 6-12-01; 8:45 am]

BILLING CODE 6717-01-M